DEPARTMENT OF THE INTERIOR

Fish and Wildlife Service

[FWS-R8-ES-2008-N0052; 1112-0000-81440-F2]

Receipt of Applications for Five Incidental Take Permits for the Construction of 24 Single-Family Homes and an Addition to an Existing Single-Family Home in Santa Cruz County, CA

AGENCY: Fish and Wildlife Service, Interior.

ACTION: Notice of availability.

SUMMARY: We, the Fish and Wildlife Service (Service), announce the availability of five Incidental Take Permit (ITP) Applications and Habitat Conservation Plans (HCPs) from the following five applicants: Hochler Construction, Scotts Valley LLC, James and Melinda Carter, Ronald Sunde, and College Heights Development Corp. Hochler Construction, Scotts Valley LLC, and James and Melinda Carter each request an ITP for a duration of 5 years; Ronald Sunde requests an ITP for a duration of 3 years; and College Heights Development Corp. requests an ITP for a duration of 6 years under section 10(a)(1)(B) of the Endangered Species Act of 1973, as amended (Act). The applicants collectively anticipate removing a total of approximately 7.23 acres of Mount Hermon June beetle (Polyphylla barbata) occupied habitat incidental to constructing 24 single-family homes and an addition to an existing single-family home in Santa Cruz County, California (Projects). The applicants' HCPs describe the mitigation and minimization measures the applicants propose to address the effects of the Projects on the Mount Hermon June beetle. In addition, the College Heights Development Corp. HCP includes the federally endangered Ben Lomond wallflower (Erysimum teretifolium) and Ben Lomond spineflower (Chorizanthe pungens var. hartwegiana) as covered species, and their HCP describes mitigation and minimization measures for those species as well.

We are requesting comments on the permit application and on our preliminary determination that the proposed Habitat Conservation Plan (HCP) qualifies as a “low effect” HCP, eligible for a categorical exclusion under the National Environmental Policy Act (NEPA) of 1969, as amended. We explain the basis for this possible determination in draft Environmental Action Statements (EAS) and associated Low Effect Screening Forms. The Applicants' Low Effect HCPs describe the mitigation and minimization measures they would implement, as required in Section 10(a)(2)(B) of the Act, to address the effects of the project on the Mount Hermon June beetle. These measures are outlined in the SUPPLEMENTARY INFORMATION section below. The draft HCPs and EASs are available for public review.

DATES: Written comments should be received on or before April 28, 2008.

ADDRESSES: Please address written comments to Diane Noda, Field Supervisor, Ventura Fish and Wildlife Office, U.S. Fish and Wildlife Service, 2493 Portola Road, Suite B, Ventura, California 93003. You may also send comments by facsimile to (805) 644-3958. To obtain copies of draft documents, see “Availability of Documents” under SUPPLEMENTARY INFORMATION.

FOR FURTHER INFORMATION CONTACT: Jen Lechuga, HCP Coordinator, (see ADDRESSES) telephone: (805) 644-1766 extension 224.

SUPPLEMENTARY INFORMATION:

Availability of Documents

You may obtain copies of the applications and HCPs by contacting the HCP Coordinator (see FOR FURTHER INFORMATION CONTACT). Documents will also be available for review by appointment, during normal business hours, at the Ventura Fish and Wildlife Office (see ADDRESSES), or via the Internet at: http://www.fws.gov/ventura.

Background

Section 9 of the Act and Federal regulations prohibit the “take” of fish or wildlife species listed as endangered or threatened, respectively. Take of listed fish or wildlife is defined under the Act to mean to harass, harm, pursue, hunt, shoot, wound, kill, trap, capture, or collect, or to attempt to engage in any such conduct. However, the Service, under limited circumstances, may issue permits to cover incidental take, i.e., take that is incidental to, and not the purpose of, the carrying out of an otherwise lawful activity. Regulations governing incidental take permits for threatened and endangered species are found at 50 CFR 17.32 and 17.22, respectively. Among other criteria, issuance of such permits must not jeopardize the existence of federally listed fish, wildlife, or plants.

The Projects are located on soils known as “Zayante sands.” These soils support the Zayante sandhills ecosystem that occurs exclusively in the Santa Cruz Mountains near the city of Scotts Valley and the communities of Ben Lomond, Mount Hermon, Felton, Olympia, Corralitos, and Bonny Doon. The Mount Hermon June beetle is restricted to Zayante sands soils in the Scotts Valley-Mount Hermon-Felton-Ben Lomond area and is found in association with vegetation of the Zayante sandhills, which is characterized by a mosaic of ponderosa pines (Pinus ponderosa), silverleaf manzanita (Arctostaphylos silvicola), and areas that are sparsely vegetated with grasses and herbs.

The five (5) applicants are requesting to remove approximately 7.23 acres of combined Mount Hermon June beetle habitat incidental to the construction of 24 single-family homes and an addition to an existing single-family home in Santa Cruz County, California. Residential construction of one single-family home for Ronald Sunde would occur within parcel 066-201-13 in Mount Hermon, Santa Cruz County, California. Residential construction of four single-family homes for Scotts Valley LLC would occur within parcel 021-031-13 in Scotts Valley, Santa Cruz County, California. Residential construction of an addition to an existing single-family residence for James and Melinda Carter would occur within parcel 067-533-04 near the city of Scotts Valley in Santa Cruz County, California. Residential construction of four single-family homes for Hochler Construction would occur within parcels 067-041-14 and 067-581-07 near the city of Scotts Valley in Santa Cruz County, California. Residential construction of 13 single-family homes for College Heights Development Corp. would occur within parcel 022-631-22 in Scotts Valley, Santa Cruz County, California.

The parcels combined encompass about 21.61 acres, and the footprint of the homes, infrastructure, and landscaping would eliminate 7.23 acres of Mount Hermon June beetle habitat. To mitigate for incidental take on the project sites, Hochler Construction, Scotts Valley LLC, James and Melinda Carter, and Ronald Sunde propose to purchase a total of 3.08 conservation credits for the Mount Hermon June beetle at the recently approved Ben Lomond Sandhills Preserve of the Zayante Sandhills Conservation Bank operated by PCO, LLC. College Heights Development Corp. will establish a permanent conservation easement on 14.0 acres of prime sandhills habitat within the parcel (Preserve). Once the easement is established, they will conduct the following activities within the Preserve: monitor the Mount Hermon June beetle, Ben Lomond wallflower, and Ben Lomond spineflower in perpetuity, remove garbage and debris, remove and control exotic plants, construct permanent fencing to protect the preserve, maintain indigenous sandhill plants, restore native plant communities where temporary impacts occur during construction, and establish an irrevocable assessment against the residential lots to cover anticipated expenses associated with the monitoring and management of the Preserve. In addition, College Heights Development Corp. will implement a number of minimization and mitigation measures including the following: control dust during grading; use of non-insect attracting light bulbs in street lights and exterior light fixtures on the new residences; erect construction fencing during grading and construction; collect seed from the Ben Lomond spineflower plants growing within the impact area; and implement a fuel management plan to minimize the chance of catastrophic fire events.

We have made a preliminary determination that the HCPs qualify as “low-effect” plans as defined by our Habitat Conservation Planning Handbook (November 1996). Our determination that an HCP qualifies as a low-effect plan is based on the following criteria: (1) Implementation of the plan would result in minor or negligible effects on federally listed, proposed, and candidate species and their habitats; (2) implementation of the plan would result in minor or negligible effects on other environmental values or resources; and (3) impacts of the plan, considered together with the impacts of other past, present, and reasonably foreseeable similarly situated projects would not result, over time, the cumulative effects to the environmental values or resources that would be considered significant. As more fully explained in our EASs and associated Low Effect Screening Forms, the Applicants' proposals for residential construction qualify as “low effect” plans for the following reasons:

(1) Approval of the HCPs would result in minor or negligible effects on the Mount Hermon June beetle and its habitat. The Service does not anticipate significant direct or cumulative effects to the Mount Hermon June beetle resulting from the proposed projects.

(2) Approval of the HCPs would not have adverse effects on unique geographic, historic, or cultural sites, or involve unique or unknown environmental risks.

(3) Approval of the HCPs would not result in any cumulative or growth-inducing impacts and would not result in significant adverse effects on public health or safety.

(4) The projects do not require compliance with Executive Order 11988 (Floodplain Management), Executive Order 11990 (Protection of Wetlands), or the Fish and Wildlife Coordination Act, nor do they threaten to violate a Federal, State, local or tribal law or requirement imposed for the protection of the environment.

(5) Approval of the HCPs would not establish a precedent for future actions or represent a decision in principle about future actions with potentially significant environmental effects.

The Service therefore has made a preliminary determination that approvals of the HCPs qualify as categorical exclusions under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

We will evaluate the permit applications, HCPs, and comments submitted thereon to determine whether the applications meet the requirements of section 10(a) of the Act (16 U.S.C. 1531 et seq.). If we determine that the applications meet those requirements, we will issue the ITPs for incidental take of the Mount Hermon June beetle. We will also evaluate whether issuance of the section 10(a)(1)(B) ITPs complies with section 7 of the Act by conducting an intra-Service section 7 consultation. We will use the results of this consultation, in combination with the above findings, in the final analysis to determine whether or not to issue the ITPs.

Public Review and Comment

If you wish to comment on the permit applications, draft Environmental Action Statements or the proposed HCPs, you may submit your comments to the address listed in the ADDRESSES section of this document. Our practice is to make comments, including names, home addresses, etc., of respondents available for public review. Individual respondents may request that we withhold their names and/or home addresses, etc., but if you wish us to consider withholding this information you must state this prominently at the beginning of your comments. In addition, you must provide a rationale demonstrating and documenting that disclosure would constitute a clearly unwarranted invasion of privacy. In the absence of exceptional, documented circumstances, this information will be released. All submissions from organizations or businesses, and from individuals identifying themselves as representatives or officials of organizations or businesses, are available for public inspection in their entirety.

The Service provides this notice pursuant to section 10(c) of the Act and pursuant to implementing regulations for NEPA (40 CFR 1506.6).

Dated: March 20, 2008.
Diane K. Noda,
Field Supervisor, Ventura Fish and Wildlife Office, Ventura, California.

[FR Doc. E8-6234 Filed 3-26-08; 8:45 am]

BILLING CODE 4310-55-P